DEPARTMENT OF COMMERCE

Census Bureau

Monthly Wholesale Trade Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 24, 20002.

ADDRESSES: Direct all written comments to Madeleine Clayton, Departmental Paperwork Clearance Officer, Department of Commerce, Room 6608, 14th and Constitution Avenue, NW, Washington, DC 20230 (or via the Internet at mclayton@doc.gov).

FOR FURTHER INFORMATION CONTACT: Requests for additional information or copies of the information collection instrument(s) and instructions should be directed to Scott Scheleur, U.S. Census Bureau, Room 2626-FOB 3, Washington, DC 20223-6500, at (301) 457-2713.

SUPPLEMENTARY INFORMATION:

I. Abstract

The Monthly Wholesale Trade Survey provides the only continuous measure of monthly sales, end-of-month inventories, method of inventory valuation, and inventories/sales ratios in the United States by selected kinds of business for merchant wholesalers. The Bureau of Economic Analysis (BEA) uses this information to improve the inventory valuation adjustments applied to estimates of the Gross Domestic Product (GDP). The Bureau of Labor Statistics (BLS) uses the data as input to their Producer Price Indexes and in developing productivity measurements.

Estimates produced from the Monthly Wholesale Trade Survey are based on a probability sample and are published on the North American Industry Classification System (NAICS) basis. The sample design consists of small, medium, and large cases requested to report sales and inventories each month. The sample, consisting of about 3,800 wholesale businesses, is drawn from the Business Register, which contains all Employer Identification Numbers (EINs) and listed establishment locations. The sample is updated quarterly to reflect employer business “births” and “deaths”; adding new employer businesses identified in the Business and Professional Classification Survey and deleting firms and EINs when it is determined they are no longer active.

The Monthly Wholesale Trade Survey will continue to generate its monthly report form through a print-on demand system. This system allows us to tailor the survey instrument to a specific industry. For example, it will print an additional instruction for a particular NAICS code. This system also reduces the time and cost of preparing mailout packages that contain unique variable data, while improving the look and quality of the products being produced.

II. Method of Collection

We collect this information by mail, fax, and telephone follow-up.

III. Data

OMB Number: 0607-0190.

Form Number: SM-42 (00).

Type of Review: Regular submission.

Affected Public: Wholesale firms in the United States.

Estimated Number of Respondents: 3,800.

Estimated Time Per Response: 7 minutes.

Estimated Total Annual Burden Hours: 5,320.

Estimated Total Annual Cost: The cost to the respondents for fiscal year 2003 is estimated to be $111,241 based on the annual response burden of 5,320 hours and an hourly salary rate of $20.91 to complete the form.

Respondent's Obligation: The collection of information is voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 18, 2002.
Madeleine Clayton,
Departmental Paperwork Clearance Officer, Office of the Chief Information Officer.

[FR Doc. 02-9977 Filed 4-23-02; 8:45 am]

BILLING CODE 3510-07-P